DEPARTMENT OF ENERGY

Federal Energy Regulatory Commission

Combined Notice of Filings # 1

July 30, 2009.

Take notice that the Commission received the following electric corporate filings:

Docket Numbers: EC09-78-001.

Applicants: Otter Tail Corporation d/b/a Otter Tail, Cascade Investment, LLC.

Description: Response to July 2, 2009 Request for Additional Information and Amendment to Application by Cascade Investment, LLC and Otter Tail Power Company, et al.

Filed Date: 07/24/2009.

Accession Number: 20090724-5070.

Comment Date: 5 p.m. Eastern Time on Friday, August 07, 2009.

Take notice that the Commission received the following exempt wholesale generator filings:

Docket Numbers: EG09-79-000.

Applicants: Langford Wind Power, LLC.

Description: Self Certification Notice of Langford Wind Power, LLC.

Filed Date: 07/30/2009.

Accession Number: 20090730-5065.

Comment Date: 5 p.m. Eastern Time on Thursday, August 20, 2009.

Take notice that the Commission received the following electric rate filings:

Docket Numbers: ER99-3168-010; ER04-657-011; ER04-659-011; ER04-660-011; ER04-994-006.

Applicants: Mystic Development, LLC, Fore River Development, LLC, Astoria Generating Company, LP, Boston Generating, LLC, Mystic I, LLC.

Description: Notification of Change in Status Pursuant to 18 CFR section 35.42(d).

Filed Date: 07/30/2009.

Accession Number: 20090730-5048.

Comment Date: 5 p.m. Eastern Time on Thursday, August 20, 2009.

Docket Numbers: ER00-3080-006.

Applicants: Otter Tail Power Company.

Description: Notice of Non-Material Change.

Filed Date: 07/28/2009.

Accession Number: 20090728-5087.

Comment Date: 5 p.m. Eastern Time on Tuesday, August 18, 2009.

Docket Numbers: ER00-2887-007; ER05-1219-004; ER05-1218-004; ER06-703-003; ER07-1341-004; ER97-2414-013; ER96-149-014.

Applicants: York Generation Company LLC, Lowell Cogeneration Company Limited Part, Dartmouth Power Associates Limited Partnership, Bayonne Plant Holding, LLC, Camden Plant Holding, LLC, Pedricktown Cogeneration Company LP, Newark Bay Cogeneration Partnership, L.P.

Description: Notice of Change in Status of Bayonne Plant Holding, LLC, et al.

Filed Date: 07/29/2009.

Accession Number: 20090729-5106.

Comment Date: 5 p.m. Eastern Time on Wednesday, August 19, 2009.

Docket Numbers: ER01-1822-005.

Applicants: Indigo Generation LLC, Larkspur Energy LLC, Wildflower Energy LP.

Description: Notice of Change in Status Pursuant to 18 CFR 35.42(d) of Indigo Generation LLC, Larkspur Energy LLC and Wildflower Energy LP.

Filed Date: 07/29/2009.

Accession Number: 20090729-5110.

Comment Date: 5 p.m. Eastern Time on Wednesday, August 19, 2009.

Docket Numbers: ER04-734-004; ER07-981-002.

Applicants: Barclays Bank PLC, Barclays Capital Energy Inc.

Description: Notice of Non-Material Change in Status.

Filed Date: 07/30/2009.

Accession Number: 20090730-5073.

Comment Date: 5 p.m. Eastern Time on Thursday, August 20, 2009.

Docket Numbers: ER06-456-020; ER06-1271-015; ER06-880-015; ER06-954-016; ER07-424-011.

Applicants: PJM Interconnection, LLC.

Description: PJM Interconnection, LLC submits proposed revisions to its Open Access Transmission Tariff.

Filed Date: 07/29/2009.

Accession Number: 20090730-0193.

Comment Date: 5 p.m. Eastern Time on Wednesday, August 19, 2009.

Docket Numbers: ER08-502-001.

Applicants: Linde Energy Services, Inc.

Description: Amended Application for Category 1 Seller Status of Linde Energy Services, Inc.

Filed Date: 07/27/2009.

Accession Number: 20090729-0005.

Comment Date: 5 p.m. Eastern Time on Monday, August 17, 2009.

Docket Numbers: ER08-1195-001.

Applicants: Red Hills Wind Project, LLC.

Description: Notice of Non-Material Change in Status of Red Hills Wind Project, LLC.

Filed Date: 07/29/2009.

Accession Number: 20090729-5108.

Comment Date: 5 p.m. Eastern Time on Wednesday, August 19, 2009.

Docket Numbers: ER09-758-001.

Applicants: Southwest Power Pool, Inc.

Description: Southwest Power Pool, Inc. submits revisions to its Membership Agreement.

Filed Date: 07/29/2009.

Accession Number: 20090730-0200.

Comment Date: 5 p.m. Eastern Time on Wednesday, August 19, 2009.

Docket Numbers: ER09-1426-001.

Applicants: Lehman Brothers Commodity Services Inc.

Description: Lehman Brothers Commodity Services Inc. submits notice of cancellation of First Revised FERC Electric Tariff No 1.

Filed Date: 07/27/2009.

Accession Number: 20090727-0042.

Comment Date: 5 p.m. Eastern Time on Monday, August 17, 2009.

Docket Numbers: ER09-1496-000.

Applicants: MidAmerican Energy Company.

Description: MidAmerican Energy Company submits First Revised Sheet 1 et al. to Original FERC Rate Schedule 103.

Filed Date: 07/27/2009.

Accession Number: 20090729-0008.

Comment Date: 5 p.m. Eastern Time on Monday, August 17, 2009.

Docket Numbers: ER09-1507-000.

Applicants: Morgan Stanley Capital Group, Inc.

Description: Morgan Stanley Capital Group, Inc. submits Amended and Restated Scheduling Service Agreement dated 7/28/09 with Deseret Generation & Transmission Co-operative, Inc.

Filed Date: 07/29/2009.

Accession Number: 20090729-0128.

Comment Date: 5 p.m. Eastern Time on Wednesday, August 19, 2009.

Docket Numbers: ER09-1508-000.

Applicants: PJM Interconnection, LLC.

Description: PJM Interconnection, LLC submits Second Revised Sheet 74A.01 et al. to Third Revised Rate Schedule FERC No. 24 to be effective 9/28/09.

Filed Date: 07/29/2009.

Accession Number: 20090730-0101.

Comment Date: 5 p.m. Eastern Time on Wednesday, August 19, 2009.

Docket Numbers: ER09-1509-000.

Applicants: Southern California Edison Company.

Description: Southern California Edison Company submits Original Sheet 1 et al. to FERC Electric Tariff, Second Revised Volume 6 Service Agreement 68.

Filed Date: 07/29/2009.

Accession Number: 20090730-0102.

Comment Date: 5 p.m. Eastern Time on Wednesday, August 19, 2009.

Docket Numbers: ER09-1510-000.

Applicants: PacifiCorp.

Description: PacifiCorp submits First Revised Sheet 1 et al. to FERC Electric Tariff, 7th Rev Volume No. 11 Service Agreement 553 to be effective 9/27/09.

Filed Date: 07/29/2009.

Accession Number: 20090730-0103.

Comment Date: 5 p.m. Eastern Time on Wednesday, August 19, 2009.

Docket Numbers: ER09-1511-000.

Applicants: Basin Electric Power Cooperative, Inc.

Description: Basin Electric Power Cooperative et al. submits Second Revised Sheet 160 et al. to FERC Electric Tariff, Second Substitute First Revised Volume 4 to be effective 10/0/09.

Filed Date: 07/29/2009.

Accession Number: 20090730-0104.

Comment Date: 5 p.m. Eastern Time on Wednesday, August 19, 2009.

Docket Numbers: ER09-1512-000; ER09-1513-000.

Applicants: AEP Power Marketing Inc.

Description: AEP Power Marketing, Inc. submits the Notices of Cancellation to terminate its market-based rate tariff, Rate Schedule FERC No. 1.

Filed Date: 07/29/2009.

Accession Number: 20090730-0199.

Comment Date: 5 p.m. Eastern Time on Wednesday, August 19, 2009.

Docket Numbers: ER09-1514-000.

Applicants: New York Independent System Operator, Inc.

Description: New York Independent System Operator, Inc. submits proposed revisions to its Market Administration and Control Area Services Tariff.

Filed Date: 07/29/2009.

Accession Number: 20090730-0182.

Comment Date: 5 p.m. Eastern Time on Wednesday, August 19, 2009.

Take notice that the Commission received the following electric securities filings:

Docket Numbers: ES09-29-001.

Applicants: Entergy Louisiana, LLC.

Description: Supplemental Information of Entergy Louisiana, LLC.

Filed Date: 07/28/2009.

Accession Number: 20090728-5102.

Comment Date: 5 p.m. Eastern Time on Friday, August 07, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC.

There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E9-18791 Filed 8-5-09; 8:45 am]

BILLING CODE 6717-01-P